DEPARTMENT OF TRANSPORTATION

Coast Guard

33 CFR Part 165

[CGD01-01-166]

RIN 2115-AA97

Safety Zone; Tomlinson Bridge, Quinnipiac River, New Haven, CT

AGENCY: Coast Guard, DOT.

ACTION: Temporary final rule.

SUMMARY: The Coast Guard is establishing a temporary safety zone on the waters of the Quinnipiac River within 100 yards of the north side and 500 yards of the south side of the Tomlinson Bridge. This safety zone will prevent marine traffic from transiting beneath the Tomlinson Bridge while a new, permanent lift span is installed on the bridge. The safety zone is needed to enable installation of a new lift span on the bridge and to protect marine traffic from the hazards associated with this operation.

DATES: This rule is effective from 7 a.m. (EST) on October 15, 2001 through 7 a.m. (EST) on October 20, 2001.

ADDRESSES: Comments and material received from the public, as well as documents indicated in this preamble as being available in the docket, are part of docket CGD01-01-166 and are available for inspection or copying at Coast Guard Group/Marine Safety Office Long Island Sound, Waterways Management Branch, 120 Woodward Avenue, New Haven, CT between 8 a.m. and 3 p.m., Monday through Friday, except Federal holidays.

FOR FURTHER INFORMATION CONTACT: Lieutenant (junior grade) Pamela Garcia, Waterways Management Branch, Group/MSO Long Island Sound, telephone (203) 468-4429.

SUPPLEMENTARY INFORMATION:

Regulatory Information

We did not publish a notice of proposed rulemaking (NPRM) for this regulation. Under 5 U.S.C. 553(b)(B), the Coast Guard finds that good cause exists for not publishing an NPRM. The safety zone is being established to enable the installation of a new lift span on the Tomlinson Bridge. This operation is one of the final stages of a multi-year bridge reconstruction project. The timing of this phase is dependent upon a number of variables, including tidal conditions and ambient temperatures for curing concrete. Following the installation of the new lift span, portions of the navigable channel must be dredged and the temporary Tomlinson Bridge will be removed. Both of these operations are permitted to occur only between October 1 and January 31.

For these reasons, it was determined that the delay inherent in the NPRM process would be contrary to the public interest. Failure to complete installation of the new lift span will delay reopening the Tomlinson Bridge and prevent removal of the temporary bridge until October 2002. That delay would, in turn, result in significant additional construction costs and prolong the impediment to navigation represented by the presence of two adjacent bridges across the waterway.

Moreover, it was determined that the NPRM process would be unnecessary. The State of Connecticut met with known waterway users August 22, 2000 and July 10, 2001 to discuss the anticipated channel closure required for the lift span installation. Waterway users in attendance acknowledge the necessity of the channel closure and the ability to adjust their waterway use accordingly. The State has continued to communicate with waterway users to apprise them of the anticipated safety zone dates and has identified the effective dates of this temporary rule as those preferred by those affected.

Under 5 U.S.C. 553(d)(3), the Coast Guard finds that good cause exists for making this rule effective less than 30 days after publication in the Federal Register. For the reasons stated above, we have determined that a delay in the effective dates of the temporary rule would be unnecessary and contrary to the public interest. Advance notice of the safety zone will be disseminated by notice to mariners.

Background and Purpose

The Coast Guard is establishing a safety zone on all waters of the Quinnipiac River within 100 yards of the north side and 500 yards of the south side of the Tomlinson Bridge, located in approximate position 41° 17′9″ N, 072° 54′3″ W. This safety zone is effective from 7 a.m. (EST) on October 15, 2001 to 7 a.m. (EST) on October 20, 2001. The safety zone will prevent waterway users from transiting through this portion of the Quinnipiac River while the new Tomlinson Bridge lift span is transported by barge beneath the bridge and raised into position. The safety zone will enable construction personnel to complete this vital phase of a long-term bridge reconstruction project and protect mariners from the hazards associated with this operation.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Recreational vessel traffic on the waterway is minimal during the period of the proposed safety zone. The State of Connecticut held several meetings in advance of the proposed channel closure to apprise known waterway users of the effective dates of the safety zone so that necessary, alternate arrangement could be made to avoid or mitigate any adverse consequences.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The proposed rule may affect the owners and operators of vessels intending to transit the boundaries of the safety zone during its effective dates. The rule will not have a substantial affect on small entities because it has been preceded by regular communication between the State of Connecticut and known waterway users regarding the need for and timing of the channel closure. Any entities that might be affected by the closure have had sufficient advance notice to make alternate arrangements.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(g) of Commandant Instruction M16475.lD, this rule is categorically excluded from further environmental documentation.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add temporary § 165.T01-166 to read as follows:

§ 165.T01-166 Safety Zone: Tomlinson Bridge, Quinnipiac River, New Haven Harbor, New Haven, CT.

(a) Location. The following area is designated as a safety zone: all waters of the Quinnipiac River within 100 yards of the north side and 500 yards of the south side of the Tomlinson Bridge, located at approximate position 41° 17′9″ N, 072° 54′3″ W.

(b) Enforcement period. This section is effective from 7 a.m. (EST) October 15, 2001 to 7 a.m. (EST) October 20, 2001.

(c) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U.S. Coast Guard vessel by siren, radio, flashing light, or other means, the operator of a vessel shall proceed as directed.

Dated: September 20, 2001.
J.J. Coccia,
Captain, U.S. Coast Guard, Captain of the Port, Group/MSO Long Island Sound.

[FR Doc. 01-24423 Filed 9-27-01; 8:45 am]

BILLING CODE 4910-15-U